DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: The Division of Independent Review Grant Reviewer Recruitment Form (OMB No. 0915-0295)—Extension

HRSA's Division of Independent Review (DIR) is responsible for carrying out the independent and objective review of all eligible applications submitted to HRSA. DIR ensures that the independent review process is efficient, effective, economical, and complies with statutes, regulations, and policies. The review of applications is performed by people knowledgeable in the field of endeavor for which support is requested and is advisory to individuals in HRSA responsible for making award decisions.

To streamline the collection, selection, and assignment of expert grant reviewers to objective review committees, HRSA utilizes a Web-based data collection Grant Reviewer Recruitment Form to gather critical reviewer information. The Grant Reviewer Recruitment Form standardizes pertinent categories of reviewer information such as areas of expertise, occupations, work settings, reviewer education, and experience. This standardized information is automatically entered into a centralized data base that the Division of Independent Review uses to determine suitability and to select appropriate reviewers for objective review committees that judge the merits of grant applications and cooperative agreements.

The annual estimate of burden is as follows:

Instrument | Number of respondents | Responses per respondent | Total responses | Hours per response | Total burden hours
New reviewer | 1,380 | 1 | 1,380 | 45 min. | 1,035
Updating reviewer information | 4,255 | 1 | 4,255 | 30 min. | 2,128
Total | 5,635 |  | 5,635 |  | 3,163

Written comments and recommendations concerning the proposed information collection should be sent within 30 days of this notice to the desk officer for HRSA, either by e-mail to OIRA_submission@omb.eop.gov or by fax to 202-395-6974. Please direct all correspondence to the “attention of the desk officer for HRSA.”

Dated: March 7, 2011.
Reva Harris,
Acting Director, Division of Policy and Information Coordination.

[FR Doc. 2011-5603 Filed 3-10-11; 8:45 am]

BILLING CODE 4165-15-P